DEPARTMENT OF THE INTERIOR

National Park Service

National Register of Historic Places; Notification of Pending Nominations

Nominations for the following properties being considered for listing in the National Register were received by the National Park Service before July 1, 2000. Pursuant to section 60.13 of 36 CFR part 60 written comments concerning the significance of these properties under the National Register criteria for evaluation may be forwarded to the National Register, National Park Service, 1849 C St. NW, NC400, Washington, DC 20240. Written comments should be submitted by July 24, 2000.

Beth M. Boland,
Acting Keeper of the National Register.

CONNECTICUT

Hartford County

Coult, Abraham, House, 1695 Hebron Ave., Glastonbury, 00000834

Hartford Electric Light Company Maple Avenue Sub-Station, 686 Maple Ave., Hartford, 00000833

New Haven County

West Haven Green Historic District, Roughly along Main St., Campbell St., Church St. and Savin St., West Haven, 00000832

NEBRASKA

Lancaster County

Herter Farmstead, 4949 S 148th, Walton, 00000835

NEW YORK

Rensselaer County

St. Mark's Episcopal Church, Main St., Hoosick Falls, 00000836

Sullivan County

Hankins Stone Arch Bridge, (Upper Delaware Valley, New York and Pennsylvania, MPS) Sullivan Cty. Rd. 94, E., Hankins, 00000838

Manny, Anthony, House, (Upper Delaware Valley, New York and Pennsylvania, MPS) 6 Hankins Rd., Hankins, 00000840

Tusten Stone Arch Bridge, (Upper Delaware Valley, New York and Pennsylvania, MPS) Tusten Rd. at Ten Mile River, Tusten, 00000839

Westchester County

Scarsdale Railroad Station, Popham Rd. at Bronx River Pkwy., Scarsdale, 00000837

NORTH CAROLINA

Chatham County

Siler City Commercial Historic District, Roughly bounded by Second Ave., Birch Ave., Third St. and Beaver St., Siler City, 00000841

Polk County

Railway Clerks' Mountain House, US 176, 0.6 mi. Se of jct. with Ozone Rd., Saluda, 00000842

PENNSYLVANIA

Berks County

Red Men Hall, 831-833 Walnut St., Reading, 00000843

Chester County

Zook House, (West Whiteland Township MRA) 100 Exton Sq., Exton, W. Whiteland, 00000844

Dauphin County

Star Barn Complex, Nissley Dr. at PA 283, Lower Swatara, 00000845

Lancaster County

New Holland Machine Company, 146 E. Franklin St., New Holland, 00000846

Philadelphia County

Bell Telephone Company Building, 1827-35 Arch St., Philadephia, 00000849

York County

Bixler, Michael and Magdealena Farmstead, 400 Mundis Race Rd., East Manchester, 00000850

Red Lion Borough Historic District, Roughly bounded by Edgewood Ave., Windsor Twp. line, MD&PA RR., Chestnut Rd., Country Club Rd., and York Twp. line., Red Line, 00000847

Sinking Springs Farms, Roughly bounded by Church Rd., Sinking Springs Ln., N. George St., Locust Ln., Susquehanna Trail and PA 238, Manchester, 00000848

WISCONSIN

Ozaukee County

Bigelow School, 4228 W. Bonniwell Rd., Mequon, 00000851

WYOMING

Crook County

Entrance Road—Devils Tower National Monument, (Devils Tower National Monument MPS) Devils Tower National Monument, Devils Tower, 00000854

Entrance Station—Devils Tower National Monument, (Devils Tower National Monument MPS) Devils Tower National Monument, Devils Tower, 00000853

Old Headquarters Area Historic District, (Devils Tower National Monument MPS) Devils Tower National Monument, Devils Tower, 00000852

Tower Ladder—Devils Tower National Monument, (Devils Tower National Monument MPS) Devils Tower National Monument, Devils Tower, 00000855

[FR Doc. 00-17267 Filed 7-6-00; 8:45 am]

BILLING CODE 4310-70-P